DEPARTMENT OF ENERGY

Federal Energy Regulatory Commission

[Docket No. EG02-98-000, et al.]

Lake Superior Power Limited Partnership, et al.; Electric Rate and Corporate Regulation Filings

February 28, 2002.

Take notice that the following filings have been made with the Commission. Any comments should be submitted in accordance with Standard Paragraph E at the end of this notice.

1. Lake Superior Power Limited Partnership

[Docket No. EG02-98-000]

Take notice that on February 26, 2002, Lake Superior Power Limited Partnership filed with the Federal Energy Regulatory Commission (Commission) an application for determination of exempt wholesale generator status pursuant to section 32(a)(1) of the Public Utility Holding Company Act of 1935. The applicant states that it is a Canadian partnership that is engaged directly and exclusively in developing, owning, and operating a gas-fired 110 MW combined cycle power plant in Ontario, Canada, which is an eligible facility.

Comment Date: March 21, 2002.

2. Garnet Energy LLC

[Docket No. EG02-99-000]

Take notice that on February 26, 2002, Garnet Energy LLC, 3380 Americana Terrace, Suite 300, Boise, Idaho 83706 (Applicant), filed with the Federal Energy Regulatory Commission (the Commission) an application for determination of exempt wholesale generator status pursuant to part 365 of the Commission's regulations.

Applicant states that it is an Idaho limited liability company and a wholly owned subsidiary of Garnet Power Company, an Idaho corporation (Garnet Power). Garnet Power is a wholly owned subsidiary of Ida-West Energy Company, an Idaho corporation (Ida-West). Ida-West is a wholly owned subsidiary of IDACORP, Inc., a publicly traded Idaho corporation.

Applicant states it will be engaged directly and exclusively in the business of owning or operating, or both owning and operating, one or more eligible facilities (the Facilities) and selling wholesale electric energy from the Facilities. Once constructed, the Facilities will consist of a 270 MW combined-cycle natural gas-fired generation facility in Canyon County, Idaho and may also include another 270 MW combined-cycle natural gas-fired expansion facility at the same site.

Copies of the application have been served upon the Idaho Public Utilities Commission, the Public Utility Commission of Oregon and the Public Service Commission of Wyoming, each an “affected state commission” under 18 CFR 365.2(b)(3), and the Securities and Exchange Commission.

Comment Date: March 21, 2002.

3. Southern Company Services, Inc.

[Docket No. ER02-352-001]

Take notice that on February 25, 2002, Southern Company Services, Inc. (SCS), as agent for Georgia Power Company (Georgia Power), tendered for filing an amendment to the filing of the Interconnection Agreement between Georgia Power and Southern Power Company (Southern Power) for Goat Rock CC Unit 2 (the Agreement), as a service agreement under Southern Operating Companies' Open Access Transmission Tariff (FERC Electric Tariff, Fourth Revised Volume No. 5). The amendment contains SCS's response to the January 11, 2002, letter issued in Docket No. ER02-352-000 by Ms. Alice Fernandez, Director, Division of Tariff and Rates—East. Comment Date: March 18, 2002.

4. Southern Company Services, Inc.

[Docket No. ER02-430-002]

Take notice that on February 25, 2002, Southern Company Services, Inc. (SCS), acting on behalf of Alabama Power Company (APC), filed with the Federal Energy Regulatory Commission (Commission) a revised Interconnection Agreement (Agreement) between Blount County Energy, LLC and APC in compliance with a letter order of the Commission dated January 25, 2002.

Comment Date: March 18, 2002.

5. American Electric Power Service Corporation

[Docket No. ER02-1074-000]

Take notice that on February 25, 2002, Indiana Michigan Power Company tendered for filing an executed Interconnection and Operation Agreement between Indiana Michigan Power Company and Indeck-Niles, L.L.C. The agreement is pursuant to the AEP Companies' Open Access Transmission Service Tariff (OATT) that has been designated as the Operating Companies of the American Electric Power System FERC Electric Tariff Revised Volume No. 6, effective June 15, 2000.

AEP requests an effective date of April 24, 2002. Copies of Indiana Michigan Power Company's filing have been served upon the Indiana Utility Regulatory Commission and Michigan Public Service Commission.

Comment Date: March 18, 2002.

6. American Electric Power Service Corporation

[Docket No. ER02-1075-000]

Take notice that on February 25, 2002, the American Electric Power Service Corporation (AEPSC) tendered for filing Service Agreements for new customers under the AEP Companies' Power Sales Tariffs. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER98-542-000 (Market-Based Rate Power Sales Tariff of the CSW Operating Companies). AEPSC respectfully requests waiver of notice to permit the attached Service Agreements to be made effective on or prior to February 25, 2002.

A copy of the filing was served upon the Parties and the State Utility Regulatory Commissions of Arkansas, Indiana, Kentucky, Louisiana, Michigan, Ohio, Oklahoma, Tennessee, Texas, Virginia and West Virginia.

Comment Date: March 18, 2002.

7. Illinois Power Company

[Docket No. ER02-1076-000]

Take notice that on February 25, 2002, Illinois Power Company (Illinois Power), filed a First Revised Interconnection Agreement entered into with AmerGen Energy Company, L.L.C. (AmerGen) and subject to Illinois Power's Open Access Transmission Tariff.

Illinois Power requests an effective date of February 15, 2002 for the First Revised Interconnection Agreement and seeks a waiver of the Commission's notice requirement. Illinois Power has served a copy of the filing on AmerGen.

Comment Date: March 18, 2002.

8. Louisville Gas and Electric Company; Kentucky Utilities Company

[Docket No. ER02-1077-000]

Take notice that on February 25, 2002, Louisville Gas and Electric Company and Kentucky Utilities Company (the Companies) filed with the Federal Energy Regulatory Commission (Commission) a market-based rate tariff, including a form of umbrella Service Agreement and a Statement of Policy and Code of Conduct. The proposed market-based rate tariff does not replace the Companies' existing market-based rate tariff, currently on file as FERC Electric Tariff, Volume No. 2. The Companies have requested a waiver of the Commission's regulations to allow the proposed tariff to take effect March 1, 2002.

Comment Date: March 18, 2002.

9. Ameren Services Company

[Docket No. ER02-1078-000]

Take notice that on February 25, 2002, Ameren Services Company (Ameren Services) tendered for filing a Service Agreement for Network Integration Transmission Service and a Network Operating Agreement between Ameren Services and Central Illinois Light Company. Ameren Services asserts that the purpose of the Agreements is to permit Ameren Services to provide transmission service to Central Illinois Light Company pursuant to Ameren's Open Access Tariff.

Comment Date: March 18, 2002.

10. Midwest Independent Transmission System Operator, Inc.

[Docket No. ER02-1079-000]

Take notice that on February 25, 2002, the Midwest Independent Transmission System Operator, Inc. (Midwest ISO) tendered for filing with the Federal Energy Regulatory Commission (Commission), pursuant to Section 205 of the Federal Power Act (FPA), 16 USC 824d (2000) and Part 35 of the Commission's Regulations proposed revisions to the Midwest ISO Open Access Transmission Tariff. The Midwest ISO proposes to modify existing terms and conditions of Schedule 14 (Regional Through and Out Rate) to allow for discounts on the RTOR surcharge (RTOR Adder).

The Midwest ISO has requested an effective date of March 1, 2002. Pursuant to the Commission's Regulations, the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: March 18, 2002.

11. PacifiCorp

[Docket No. ER02-1080-000]

Take notice that on February 25, 2002, PacifiCorp tendered for filing in accordance with 18 CFR 35 of the Commission's Rules and Regulations, Notice of Cancellation of a Sales Agreement between PacifiCorp and El Paso Merchant Energy, L.P. (originally in the name of Engage Energy US, L.P.) dated June 27, 1997.

Copies of this filing were supplied to the Washington Utilities and Transportation Commission and the Public Utility Commission of Oregon.

Comment Date: March 18, 2002.

12. Indeck-Oswego Limited Partnership

[Docket No. ER02-1081-000]

Take notice that on February 25, 2002, Indeck-Oswego Limited Partnership (Applicant) tendered for filing, pursuant to Section 205 of the Federal Power Act, and Part 35 of the Federal Energy Regulatory Commission's regulations, a request for authorization to make sales of electrical capacity, energy, and certain ancillary services at market-based rates and for related waivers and blanket authorizations.

Comment Date: March 18, 2002.

13. Kansas City Power & Light Company

[Docket No. ER02-1082-000]

Take notice that on February 25, 2002, Kansas City Power & Light Company (KCPL) tendered for filing with the Federal Energy Regulatory Commission (Commission) an amendment to its Municipal Participation Agreement with Independence, MO. KCPL requests an effective date of April 1, 2002, and therefore requests a waiver of the Commission's notice requirement

Comment Date: March 18, 2002.

14. South Carolina Electric & Gas Company

[Docket No. ER02-1083-000]

Take notice that on February 25, 2002, South Carolina Electric & Gas Company (SCE&G) submitted a service agreement establishing Engage Energy America LLC as a customer under the terms of SCE&G's Negotiated Market Sales Tariff.

SCE&G requests an effective date one day subsequent to the date of filing. Accordingly, SCE&G requests waiver of the Commission's notice requirements. Copies of this filing were served upon Engage Energy America LLC and the South Carolina Public Service Commission.

Comment Date: March 18, 2002.

15. Alcan Power Marketing Inc.

[Docket No. ER02-1084-000]

Take notice that on February 22, 2002, Alcan Power Marketing Inc. (the Applicant) tendered for filing, under section 205 of the Federal Power Act (FPA), a request for authorization to make wholesale sales of electric energy, capacity, replacement reserves and ancillary services at market-based rates, and to reassign transmission capacity and resell Firm Transmission Rights.

Comment Date: March 18, 2002.

16. Keyspan-Ravenswood, Inc.

[Docket No. ER02-1085-000]

Take notice that on February 25, 2002, KeySpan-Ravenswood, Inc. (Ravenswood) filed an informational letter with the Federal Energy Regulatory Commission (Commission), pursuant to Section 35.15(c) of the Commission's rules notifying it that the following power sales agreements on file with the Commission terminated by their own terms: (1) Transition Capacity Agreement between Ravenswood and The Consolidated Edison Co. of New York, Inc. (Con Edison) accepted in Docket No. ER99-2376-000 and designated by the Commission as Ravenswood's Rate Schedule FERC No. 1 and the (2) Transition Energy Agreement between Ravenswood and Con Edison accepted in Docket No. ER99-3183-000 and designated by the Commission as Ravenswood's Rate Schedule FERC No. 2.

Comment Date: March 18, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5369 Filed 3-6-02; 8:45 am]

BILLING CODE 6717-01-P